DEPARTMENT OF THE INTERIOR

National Park Service

[N6427; NPS-WASO-NAGPRA-NPS0040834; PPWOCRADN0-PCU00RP14.R50000]

Notice of Inventory Completion: The Newark Museum of Art, Newark, NJ

AGENCY: National Park Service, Interior.

ACTION: Notice.

SUMMARY: In accordance with the Native American Graves Protection and Repatriation Act (NAGPRA), The Newark Museum of Art has completed an inventory of human remains and has determined that there is no lineal descendant and no Indian Tribe or Native Hawaiian organization with cultural affiliation.

DATES: Upon request, repatriation of the human remains in this notice may occur on or after September 19, 2025.

ADDRESSES: Send written requests for repatriation of the human remains in this notice to Amber Woods Germano, Senior Registrar, The Newark Museum of Art, 49 Washington Street, Newark, NJ 07102, email agermano@newarkmuseumart.org.

SUPPLEMENTARY INFORMATION: This notice is published as part of the National Park Service's administrative responsibilities under NAGPRA. The determinations in this notice are the sole responsibility of The Newark Museum of Art, and additional information on the determinations in this notice, including the results of consultation, can be found in its inventory or related records. The National Park Service is not responsible for the determinations in this notice.

Abstract of Information Available

Human remains representing, at least, one individual has been identified. No associated funerary objects are present. On an unknown date, a human mandible with no teeth of one individual was received and housed at The Newark Museum of Art. “Indian jaw” is written on the side of the mandible. A number, 001.0136, was found with the remains when it was discovered in the collection. No information is on file regarding the use of hazardous substances.

Consultation

Invitations to consult were sent to the Delaware Nation, Oklahoma; Delaware Tribe of Indians; and the Stockbridge Munsee Community, Wisconsin. The Delaware Nation, Oklahoma; Delaware Tribe of Indians; and Stockbridge Munsee Community, Wisconsin responded yes to the Museum's request for consultation on this matter and consulted jointly, with the Stockbridge Munsee Community, Wisconsin taking the lead.

Cultural Affiliation

The following types of information about the cultural affiliation of the human remains in this notice are available: geographic. The information, including the results of consultation, identified:

• No earlier group connected to the human remains.

• No Indian Tribe or Native Hawaiian organization connected to the human remains.

• No relationship of shared group identity between the earlier group and the Indian Tribe or Native Hawaiian organization that can be reasonably traced through time.

Determinations

The Newark Museum of Art has determined that:

• The human remains described in this notice represent the physical remains of one individual of Native American ancestry.

• No known lineal descendant who can trace ancestry to the human remains in this notice has been identified.

• No Indian Tribe or Native Hawaiian organization with cultural affiliation to the human remains in this notice has been clearly or reasonably identified.

Requests for Repatriation

Written requests for repatriation of the human remains in this notice must be sent to the authorized representative identified in this notice under ADDRESSES. Requests for repatriation may be submitted by any lineal descendant, Indian Tribe, or Native Hawaiian organization who shows, by a preponderance of the evidence, that the requestor is a lineal descendant or an Indian Tribe or Native Hawaiian organization with cultural affiliation.

Upon request, repatriation of the human remains described in this notice may occur on or after September 19, 2025. If competing requests for repatriation are received, the Newark Museum of Art must determine the most appropriate requestor prior to repatriation. Requests for joint repatriation of the human remains are considered a single request and not competing requests. The Newark Museum of Art is responsible for sending a copy of this notice to any consulting lineal descendant, Indian Tribe, or Native Hawaiian organization.

Authority: Native American Graves Protection and Repatriation Act, 25 U.S.C. 3003, and the implementing regulations, 43 CFR 10.10.

Dated: August 5, 2025.
Melanie O'Brien,
Manager, National NAGPRA Program.

[FR Doc. 2025-15851 Filed 8-19-25; 8:45 am]

BILLING CODE 4312-52-P